DEPARTMENT OF DEFENSE

Defense Acquisition Regulations System

48 CFR Part 219

RIN 0750-AH06

Defense Federal Acquisition Regulation Supplement; Repeal of the Small Business Competitiveness Demonstration Program (DFARS Case 2011-D001)

AGENCY: Defense Acquisition Regulations System, Department of Defense (DoD).

ACTION: Final rule.

SUMMARY: DoD is issuing a final rule amending the Defense Acquisition Regulation Supplement (DFARS) to implement section 1335 of the Small Business Jobs Act of 2010. Section 1335 repealed the Small Business Competitiveness Demonstration Program.

DATES: Effective Date: February 22, 2011.

FOR FURTHER INFORMATION CONTACT: Mr. Manual Quinones, 703-602-8383.

SUPPLEMENTARY INFORMATION:

I. Background

This final rule amends the Defense Federal Acquisition Regulation Supplement by deleting subpart DFARS 219.10 to meet the requirements of section 1335 of the Small Business Jobs Act of 2010, (Pub. L. 111-240). Section 1335 amended the Business Opportunity Development Reform Act of 1988 (Pub. L. 100-656) by striking title VII (15 U.S.C. 644 note). The repeal of the Small Business Competitiveness Demonstration Program became effective immediately upon the enactment. It will apply to the first full fiscal year after the September 27, 2010, date of enactment (Fiscal Year 2011). Therefore, the text at DFARS subpart 219.10 is obsolete.

II. Executive Order 12866

This is not a significant regulatory action and, therefore, was not subject to review under Section 6(b) of the Executive Order 12866, Regulatory Planning and Review, dated September 30, 1993. This rule is not a major rule under 5 U.S.C. 804.

III. Regulatory Flexibility Act

The Regulatory Flexibility Act does not apply to this rule because an initial regulatory flexibility analysis is only required for proposed or interim rules that require publication for public comment (5 U.S.C. 603) and a final regulatory flexibility analysis is only required for final rules that were previously published for public comment, and for which an initial regulatory flexibility analysis was prepared (5 U.S.C. 604).

This final rule does not constitute a significant DFARS revision as defined at FAR 1.501-1 because this rule will not have a significant cost or administrative impact on contractors or offerors, or a significant effect beyond the internal operating procedures of the Government. Therefore, publication for public comment under 41 U.S.C. 418b is not required.

IV. Paperwork Reduction Act

The final rule does not contain any information collection requirements that require the approval of the Office of Management and Budget under the Paperwork Reduction Act (44 U.S.C. chapter 35).

List of Subjects in 48 CFR Part 219

Government procurement.

Mary Overstreet,
Editor, Defense Acquisition Regulations System.

Therefore, 48 CFR part 219 is amended as follows:

PART 219—SMALL BUSINESS PROGRAMS

1. The authority citation for 48 CFR part 219 continues to read as follows:

Authority: 41 U.S.C. 421 and 48 CFR chapter 1.

Subpart 219.10—[Removed]

2. Remove subpart 219.10.

[FR Doc. 2011-3762 Filed 2-18-11; 8:45 am]

BILLING CODE 5001-08-P